DEPARTMENT OF AGRICULTURE

Animal and Plant Health Inspection Service

7 CFR Part 319

[Docket No. APHIS-2015-0073]

RIN 0579-AE18

Importation of Fresh Apple and Pear Fruit Into the Continental United States From Certain Countries in the European Union

AGENCY: Animal and Plant Health Inspection Service, USDA.

ACTION: Proposed rule; reopening of comment period.

SUMMARY: We are reopening the comment period for our proposed rule that would amend the regulations to allow the importation of fresh apple and pear fruit from certain countries in the European Union into the continental United States, provided that the fruit is produced in accordance with a systems approach, as an alternative to importation under the current preclearance program. This action will allow interested persons additional time to prepare and submit comments.

DATES: The comment period for the proposed rule published on January 20, 2016 (81 FR 3033-3038) is reopened. We will consider all comments that we receive on or before May 5, 2016.

ADDRESSES: You may submit comments by either of the following methods:

• Federal eRulemaking Portal: Go to http://www.regulations.gov/#!docketDetail;D=APHIS-2015-0073.

• Postal Mail/Commercial Delivery: Send your comment to Docket No. APHIS-2015-0073, Regulatory Analysis and Development, PPD, APHIS, Station 3A-03.8, 4700 River Road Unit 118, Riverdale, MD 20737-1238.

Supporting documents and any comments we receive on this docket may be viewed at http://www.regulations.gov/#!docketDetail;D=APHIS-2015-0073 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. David B. Lamb, Senior Regulatory Policy Specialist, PPQ, APHIS, USDA, 4700 River Road Unit 133, Riverdale, MD 20737-1236; (301) 851-2103; David.B.Lamb@aphis.usda.gov.

SUPPLEMENTARY INFORMATION: On January 20, 2016, we published in the Federal Register (81 FR 3033-3038, Docket No. APHIS-2015-0073) a proposal to amend the regulations to allow the importation of fresh apple and pear fruit from certain countries in the European Union into the continental United States, provided that the fruit is produced in accordance with a systems approach, as an alternative to importation under the current preclearance program.

Comments on the proposed rule were required to be received on or before March 21, 2016. We are reopening the comment period on Docket No. APHIS-2015-0073 for an additional 45 days until May 5, 2016. This action will allow interested persons additional time to prepare and submit comments. We will also consider all comments received between March 22, 2016, and the date of this notice.

Authority: 7 U.S.C. 450, 7701-7772, and 7781-7786; 21 U.S.C. 136 and 136a; 7 CFR 2.22, 2.80, and 371.3.

Done in Washington, DC, this 11th day of April 2016.
Kevin Shea,
Administrator, Animal and Plant Health Inspection Service.

[FR Doc. 2016-08806 Filed 4-14-16; 8:45 am]

BILLING CODE 3410-34-P